DEPARTMENT OF AGRICULTURE

Forest Service

Sierra County, CA, Resource Advisory Committee

AGENCY: Forest Service, USDA.

ACTION: Notice of meeting.

SUMMARY: The Sierra County Resource Advisory Committee (RAC) will meet on August 27, 2002, in Sierraville, California. The purpose of the meeting is to discuss issues relating to implementing the Secure Rural Schools and Community Self-Determination Act of 2000 (Payments to States) and the expenditure of Title II funds benefiting National Forest System lands on the Humboldt-Toiyabe, Plumas and Tahoe National Forests in Sierra County.

DATES: The meeting will be held August 27, 2002 from 10 a.m. to 4:30 p.m.

ADDRESSES: The meeting will be held at the Sierraville Ranger Station, Hwy 89 North, (317 South Lincoln), Sierraville, CA.

FOR FURTHER INFORMATION CONTACT: Ann Westling, Committee Coordinator, USDA, Tahoe National Forest, 631 Coyote St., Nevada City, CA, 95959, (530) 478-6205, E-mail: awestling@fs.fed.us.

SUPPLEMENTARY INFORMATION: Agenda items to be covered include: (1) Welcome and announcements; (2) Review of projects approved for 2001 and implementation status; (3) Review and confirmation of project criteria; (4) Review and confirmation of voting and discussion process for new proposals; (5) Presentation of projects and vote; (6) Public comment. The meeting is open to the public. Public input opportunity will be provided and individuals will have the opportunity to address the Committee at that time.

Dated: August 14, 2002.
Steven T. Eubanks,
Forest Supervisor.

[FR Doc. 02-21077 Filed 8-19-02; 8:45 am]

BILLING CODE 3410-11-M